DEPARTMENT OF COMMERCE

International Trade Administration

[A-821-811]

Solid Fertilizer Grade Ammonium Nitrate From the Russian Federation; Notice of Postponement of Final Determination in the Antidumping Duty Investigation

AGENCY: Import Administration, International Trade Administration, Department of Commerce.

EFFECTIVE DATE: February 11, 2000.

FOR FURTHER INFORMATION CONTACT: Doreen Chen, Laurel LaCivita, or Rick Johnson, Import Administration, International Trade Administration, U.S. Department of Commerce, 14th Street and Constitution Avenue, NW, Washington, DC 20230; telephone: (202) 482-0408, (202) 482-4243, and (202) 482-3818, respectively.

The Applicable Statute

Unless otherwise indicated, all citations to the Tariff Act of 1930, as amended (“the Act”), are references to the provisions effective January 1, 1995, the effective date of the amendments made to the Act by the Uruguay Round Agreements Act (“URAA”). In addition, unless otherwise indicated, all citations to the Department's regulations are to the regulations at 19 CFR Part 351 (1998).

Postponement of Final Determination

The Department received a request pursuant to section 735(a)(2) of the Act and 19 CFR 351.210(e)(2) to postpone its final determination to 135 days after publication of the Department's preliminary determination and to extend the imposition of provisional measures from a four-month period to not more than six months from respondent JSC Nevinnomyssky Azot, a producer/exporter of the subject merchandise.

In accordance with 19 CFR 351.210(b)(2)(ii), because (1) Our preliminary determination is affirmative, (2) the respondent requesting a postponement accounts for a significant proportion of exports of the subject merchandise, and (3) no compelling reasons for denial exist, we are granting respondent's request and are postponing the final determination to no later than May 22, 2000, which is 135 days after the publication of the preliminary determination. See Notice of Preliminary Determination of Sales at Less than Fair Value: Solid Fertilizer Grade Ammonium Nitrate from the Russian Federation. Suspension of liquidation will be extended accordingly.

This notice of postponement is published pursuant to 19 CFR 351.210(g).

Dated: February 2, 2000.
Holly A. Kuga,
Acting Assistant Secretary for Import Administration.

[FR Doc. 00-3153 Filed 2-10-00; 8:45 am]

BILLING CODE 3510-DS-P